NUCLEAR REGULATORY COMMISSION

[Docket Nos. 50-498, and 50-499; NRC-2010-0375]

STP Nuclear Operating Company; South Texas Project

AGENCY: Nuclear Regulatory Commission.

ACTION: Final supplement 48 to generic environmental impact statement for license renewal of nuclear plants; issuance.

SUMMARY: Notice is hereby given that the U.S. Nuclear Regulatory Commission (NRC) has published the final, plant-specific, Supplement 48 to the “Generic Environmental Impact Statement for License Renewal of Nuclear Plants (GEIS),” NUREG-1437 (ML13322A890), regarding the renewal of operating license NPF-76 and NPF-80 for an additional 20 years of operation for the South Texas Project (STP). The STP site is located in Bay City, Texas. Possible alternatives to the proposed action (license renewal) include no action and reasonable alternative energy sources.

ADDRESSES: Please refer to Docket ID NRC-2010-0375 when contacting the NRC about the availability of information regarding this document. You may access publicly-available information related to this action by the following methods:

• Federal Rulemaking Web site: Go to http://www.regulations.gov and search for Docket ID NRC-2010-0375. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4837, or by email to pdr.resource@nrc.gov. The ADAMS accession number for each document referenced in this notice (if that document is available in ADAMS) is provided the first time that a document is referenced. Additional information regarding accessing materials related to this action is under Section II, Document Availability heading in the SUPPLEMENTARY INFORMATION section of this document.

• NRC's PDR: You may examine and purchase copies of public documents at the NRC's PDR, Room O1-F21, One White Flint North, 11555 Rockville Pike, Rockville, Maryland 20852.

FOR FURTHER INFORMATION CONTACT: Tam Tran, Office of Nuclear Reactor Regulation, U.S. Nuclear Regulatory Commission, Washington, DC 20555-0001; telephone: 301-415-3617; email: Tam.Tran@nrc.gov.

SUPPLEMENTARY INFORMATION:

I. Discussion

The NRC received an application, dated October 25, 2010 (ML103360179), from STP Nuclear Operating Company (STPNOC), filed pursuant to Section 103 of the Atomic Energy Act of 1954, as amended, and Part 54 of Title 10 of the Code of Federal Regulations (10 CFR), to renew the operating license for STPNOC. Renewal of the license would authorize the applicant to operate the facility for an additional 20-year period beyond the period specified in the current operating license. The current operating licenses for STPNOC, Units 1 and 2 (NPF-76 and NPF-80), expires on August 20, 2027, and December 15, 2028.

The final Supplemental Environmental Impact Statement (SEIS) is being issued as part of the NRC's process to decide whether to issue renewed licenses to STPNOC, pursuant to 10 CFR Part 54. The final SEIS was prepared in compliance with the National Environmental Policy Act of 1969, as amended (NEPA), and the NRC's regulations for implementing NEPA in 10 CFR Part 51. In the final SEIS, the NRC staff assessed the potential environmental impacts from the operation, refurbishment, and decommissioning of the proposed STP license renewal. The NRC staff assessed the impacts of the proposed action on land use, historic and cultural resources, air quality, geology and soils, water resources, ecological resources, transportation, public and occupational health, waste management, socioeconomics, and environmental justice. In preparing this final SEIS, the NRC staff also reviewed, considered, evaluated, and addressed the public comments received during the scoping process and on the draft SEIS.

In addition to the proposed action, the NRC staff considered a reasonable range of alternatives, including the no-action alternative. Under the no-action alternative, the NRC would deny STPNOC's request for renewed operating licenses for the STP units. Other alternatives the NRC staff considered include: (1) natural gas-fired combined cycle (NGCC); (2) new nuclear; (3) supercritical coal; (4) combination alternative (NGCC, wind, and energy conservation and efficiency); (5) purchased power; (6) offsite new nuclear-, gas-, or coal-generation; (7) energy conservation and energy efficiency; (8) wind power; (9) solar power; (10) hydroelectric power; (11) ocean wave and current energy; (12) geothermal power; (13) municipal solid waste; (14) biomass; (15) biofuels; (16) oil-fired power; (17) fuel cells; and (18) delayed retirement. These alternatives, except for the NGCC, new nuclear, supercritical coal, combination alternative, and purchased power were eliminated from further analysis because of technical, resource availability, or current commercial limitations that would not justify inclusion in the range of reasonable alternatives.

As discussed in Section 9.4 of the final supplement, the NRC staff determined that the adverse environmental impacts of renewed licenses for STPNOC are not great enough to deny this option for energy planning decision-makers. This recommendation is based on: (1) the analysis and findings in the GEIS; (2) information provided in the environmental report and other documents submitted by STPNOC; (3) consultation with Federal, State, local, and tribal government agencies; (4) the NRC staff's own independent environmental review; and (5) consideration of public comments received during the scoping process and on the draft SEIS.

II. Document Availability

Documents related to this notice are available on the NRC's Plant Application for Licenses Renewal Web site at http://www.nrc.gov/reactors/operating/licensing/renewal/applications/south-texas-project.html. The final SEIS for the proposed STP project may also be accessed on the internet at http://www.nrc.gov/reading-rm/doc-collections/nuregs/staff/sr1437/ and selecting “Supplement 48.”

The STPNOC's license application, the STPNOC's Environmental Report, and the NRC's final SEIS are available in ADAMS under Accession Numbers ML103010262, ML103010263, and ML13322A890.

A copy of the final SEIS will be available at the Bay City Library, 1100 7th Street, Bay City, TX 77414.

Dated at Rockville, Maryland, this 19th day of November, 2013.
For the Nuclear Regulatory Commission.
Brian D. Wittick,
Chief, Projects Branch 2, Division of License Renewal, Office of Nuclear Reactor Regulation.

[FR Doc. 2013-28379 Filed 11-25-13; 8:45 am]

BILLING CODE 7509-01-P